DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Nyrstar Tennessee Mines—Strawberry Plains, LLC.

DATES: All comments on the petition must be received by MSHA's Office of Standards, Regulations, and Variances on or before August 13, 2025.

ADDRESSES: You may submit comments identified by Docket No. MSHA-2025-0069 by any of the following methods:

1. Federal eRulemaking Portal: https://www.regulations.gov. Follow the instructions for submitting comments for MSHA-2025-0069.

2. Fax: 202-693-9441.

3. Email: petitioncomments@dol.gov.

4. Regular Mail or Hand Delivery: MSHA, Office of Standards, Regulations, and Variances, Room C3522, 200 Constitution Ave NW, Washington, DC 20210.

Attention: Jessica D. Senk, Acting Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: Jessica D. Senk, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-001-M.

Petitioner: Nyrstar Tennessee Mines—Strawberry Plains, LLC, 2421 W Old Andrew Johnson Hwy., Strawberry Plains, TN 37871.

Mine: Immel Mine, MSHA ID No. 40-00170, located in Knox County, Tennessee.

Regulation Affected: 30 CFR 57.19073, Hoisting during shift changes.

Modification Request: The petitioner requests a modification of 30 CFR 57.19073 to allow use of the currently installed hoisting system at the mine to transport both materials and miners in the same shaft during shift changes.

The petitioner states that:

(a) On November 13, 2024, MSHA informed the operator that the Agency would begin issuing citations regarding use of the hoist at the Immel Mine. MSHA stated that the citations would be based on a violation of 30 CFR 57.19073 for miners being transported in the cage while materials were on the skip because the compartments and dumping bins are not partitioned to prevent spillage into the cage compartment.

(b) The hoist is a single drum friction hoist powered by a 900 HP GE motor. The Canadian Ingersoll-Rand original serial number is 1832-B.

(c) The shaft is circular, unlined, has a 23-foot diameter, and is 1,642 feet deep.

(d) The shaft has three main compartments, constructed with steel sets, with one conveyance in each compartment. The three compartments are: an ore skip, a small personnel cage, and a larger service and personnel cage.

(e) The standard does not require that there be a particular type of partitions between the compartments.

(f) The larger service and personnel cage is partitioned from the ore skip because it is fully covered and in a separate part of the shaft.

(g) The ore skip is counterbalanced by the larger service and personnel cage which has counterweights affixed to it.

(h) The ore skip has a capacity of approximately 14 tons. It is never filled to the brim, is enclosed by a door with latches, filled below its tonnage rating (generally loaded 2 tons less than its capacity), and is only above the larger service and personnel cage for a small portion of the shaft.

(i) The shaft also has three auxiliary compartments, adjacent to the three main compartments, which are used for mine services—compressed air, water, and electricity.

(j) The petitioner and its predecessors have operated the hoist, as designed, since 1972.

(k) The petitioner has implemented a temporary workaround in which only six miners can be loaded on the large service and personnel cage while the ore skip remains unloaded to avoid an insufficient counterweight for the ore skip.

(l) The current use of the hoist (as described under the alternative method) provides an equivalent degree of safety as that afforded by the standard.

(m) Keeping the ore skip empty and manually removing counterweights each time personnel need to ride in the large cage would result in a diminution of safety. The process of removing the counterweights is time-consuming, dangerous, and creates additional opportunity for risk and human error.

The petitioner proposes the following alternative method:

(a) The lead-zinc ore shall be unloaded into the hoist to be transported to the surface.

(b) The larger service and personnel cage shall serve as the counterweight during operation of the ore skip to transport the ore from production levels to the surface.

(c) As part of the counterweight function, weights shall be affixed to the bottom of the larger service and personnel cage.

(d) The ore skip shall not be filled to the brim and shall dump away from the larger service and personnel cage.

There is no representative of miners at the Immel Mine. A copy of the petition for modification was posted on the mine bulletin board on May 16, 2025.

The petitioner asserts that the alternative method proposed will at all times guarantee no less than the same measure of protection afforded to the miners under the mandatory standard.

Jessica D. Senk,
Acting Director, Office of Standards, Regulations, and Variances.

[FR Doc. 2025-13037 Filed 7-11-25; 8:45 am]

BILLING CODE 4520-43-P